DEPARTMENT OF COMMERCE

International Trade Administration

[A-570-919, A-602-806]

Electrolytic Manganese Dioxide From the People's Republic of China and Australia: Continuation of the Antidumping Duty Order on the People's Republic of China, Revocation of the Antidumping Duty Order on Australia

AGENCY: Enforcement and Compliance, International Trade Administration, Department of Commerce.

SUMMARY: As a result of the determinations by the Department of Commerce (the “Department”) and the International Trade Commission (the “ITC”) in their five year (sunset) reviews that revocation of the antidumping duty (“AD”) order on electrolytic manganese dioxide (“EMD”) from the People's Republic of China (“PRC”) would likely lead to a continuation or recurrence of dumping and material injury to an industry in the United States, the Department is publishing a notice of continuation of the AD order on EMD from the PRC. In addition, as a result of the ITC's determination that revocation of the AD order on EMD from Australia is not likely to lead to continuation or recurrence of dumping and material injury to an industry in the United States within a reasonably foreseeable time, the Department is revoking the AD order on EMD from Australia.

DATES: Effective Date: January 9, 2015.

FOR FURTHER INFORMATION CONTACT: Howard Smith, AD/CVD Operations, Office IV, Enforcement and Compliance, International Trade Administration, U.S. Department of Commerce, 14th Street and Constitution Avenue NW., Washington, DC 20230; telephone: 202-482-5193.

SUPPLEMENTARY INFORMATION

Background

On October 7, 2008, the Department published the AD orders on EMD from the PRC and Australia.¹ On September 3, 2013, the Department published the notice of initiation of the first sunset review of the AD orders on EMD from the PRC and Australia, pursuant to section 751(c) of the Tariff Act of 1930, as amended (the “Act”).² As a result of its reviews, the Department determined that revocation of the AD orders on EMD from the PRC and Australia would likely lead to continuation or recurrence of dumping and notified the ITC of the magnitude of the dumping margins likely to prevail should the order be revoked.³ On December 24, 2014, the ITC published its determination, pursuant to section 751(c) of the Act, that revocation of the AD order on EMD from the PRC would be likely to lead to continuation or recurrence of material injury to an industry in the United States within a reasonably foreseeable time, but that revocation of the AD order on EMD from Australia would not be likely to do so.⁴

¹ See Antidumping Duty Order: Electrolytic Manganese Dioxide from Australia, 73 FR 58538 (October 7, 2008) (“Australia Order”); see also Antidumping Duty Order: Electrolytic Manganese Dioxide from the People's Republic of China, 73 FR 58537 (October 7, 2008).

² See Initiation of Five-Year (“Sunset”) Review, 78 FR 54237 (September 3, 2013).

³ See Electrolytic Manganese Dioxide From Australia and the People's Republic of China: Final Results of the Expedited First Sunset Reviews of the Antidumping Duty Orders, 79 FR 6162, 6163 (February 3, 2014).

⁴ See Electrolytic Manganese Dioxide From Australia and China, 79 FR 77525 (December 24, 2014).

Scope of the Orders

The merchandise covered by these orders includes all manganese dioxide (MnO[2]) that has been manufactured in an electrolysis process, whether in powder, chip, or plate form. Excluded from the scope are natural manganese dioxide (NMD) and chemical manganese dioxide (CMD). The merchandise subject to these orders is classified in the Harmonized Tariff Schedule of the United States (“HTSUS”) at subheading 2820.10.00.00. While the HTSUS subheading is provided for convenience and customs purposes, the written description of the scope of these orders is dispositive.

Continuation of the Order on EMD From the PRC

As a result of the determinations by the Department and the ITC that revocation of the AD order on EMD from the PRC would likely lead to a continuation or recurrence of dumping and material injury to an industry in the United States, pursuant to section 751(d)(2) of the Act, the Department hereby orders the continuation of the AD order on EMD from the PRC. U.S. Customs and Border Protection (“CBP”) will continue to collect AD cash deposits at the rates in effect at the time of entry for all imports of subject merchandise.

The effective date of the continuation of the order will be the date of publication in the Federal Register of this notice of continuation. Pursuant to section 751(c)(2) of the Act, the Department intends to initiate the next five-year review of the order not later than 30 days prior to the fifth anniversary of the effective date of continuation.

Revocation of the Order on EMD From Australia

As a result of the determination by the ITC that revocation of the AD order on EMD from Australia would not be likely to lead to continuation or recurrence of material injury to an industry in the United States within a reasonably foreseeable time, pursuant to section 751(d)(2) of the Act, the Department is revoking the AD order on EMD from Australia. Pursuant to section 751(d)(2) of the Act and 19 CFR 351.222(i)(2)(i), the effective date of revocation is October 7, 2013 (i.e., the fifth anniversary of the date of publication of the order in the Federal Register).⁵

⁵ See Australia Order, 73 FR at 58538; see also 19 CFR 351.222(i)(2)(i).

Cash Deposit and Assessment of Duties for EMD From Australia

The Department will notify CBP 15 days after publication of this notice, to terminate the suspension of liquidation and to discontinue the collection of cash deposits on entries of EMD from Australia, entered or withdrawn from warehouse, on or after October 7, 2013. The Department will further instruct CBP to refund with interest all cash deposits on entries made on or after October 7, 2013. Entries of EMD from Australia prior to the effective date of revocation will continue to be subject to suspension of liquidation and AD deposit requirements and assessments. The Department will complete any pending or requested administrative reviews of the order on EMD from Australia covering entries prior to October 7, 2013.

Administrative Protective Order

This notice also serves as the only reminder to parties subject to administrative protective order (“APO”) of their responsibility concerning the return/destruction or conversion to judicial protective order of proprietary information disclosed under APO in accordance with 19 CFR 351.305(a)(3). Failure to comply is a violation of the APO which may be subject to sanctions.

These five-year (sunset) reviews and notice are published in accordance with sections 751(c) and (d)(2), and 777(i) of the Act, and 19 CFR 351.218(f)(4).

Dated: December 31, 2014.
Paul Piquado,
Assistant Secretary for Enforcement and Compliance.

[FR Doc. 2015-00183 Filed 1-8-15; 8:45 am]

BILLING CODE 3510-DS-P